ENVIRONMENTAL PROTECTION AGENCY

40 CFR Part 52

[EPA-R08-OAR-2011-0400; FRL-9676-2]

Approval and Promulgation of State Implementation Plans; State of Wyoming; Regional Haze Rule Requirements for Mandatory Class I Areas

AGENCY: Environmental Protection Agency (EPA).

ACTION: Proposed rule.

SUMMARY: EPA is proposing to approve Wyoming State Implementation Plan (SIP) revisions submitted on January 12, 2011 and April 19, 2012 that address regional haze. These SIP revisions were submitted to address the requirements of the Clean Air Act (CAA or Act) and our rules that require states to prevent any future and remedy any existing man-made impairment of visibility in mandatory Class I areas caused by emissions of air pollutants from numerous sources located over a wide geographic area (also referred to as the “regional haze program”). States are required to assure reasonable progress toward the national goal of achieving natural visibility conditions in Class I areas. EPA is taking this action pursuant to section 110 of the CAA.

DATES: Comments must be received on or before July 23, 2012.

ADDRESSES: Submit your comments, identified by Docket ID No. EPA-R08-OAR-2011-0400, by one of the following methods:

• http://www.regulations.gov. Follow the on-line instructions for submitting comments.

• Email: r8airrulemakings@epa.gov.

• Fax: (303) 312-6064 (please alert the individual listed in the FOR FURTHER INFORMATION CONTACT if you are faxing comments).

• Mail: Carl Daly, Director, Air Program, Environmental Protection Agency (EPA), Region 8, Mailcode 8P-AR, 1595 Wynkoop Street, Denver, Colorado 80202-1129.

• Hand Delivery: Carl Daly, Director, Air Program, Environmental Protection Agency (EPA), Region 8, Mailcode 8P-AR, 1595 Wynkoop, Denver, Colorado 80202-1129. Such deliveries are only accepted Monday through Friday, 8:00 a.m. to 4:30 p.m., excluding Federal holidays. Special arrangements should be made for deliveries of boxed information.

Instructions: Direct your comments to Docket ID No. EPA-R08-OAR-2011-0400. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA, without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I. General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly-available docket materials are available either electronically in http://www.regulations.gov or in hard copy at the Air Program, Environmental Protection Agency (EPA), Region 8, Mailcode 8P-AR, 1595 Wynkoop, Denver, Colorado 80202-1129. EPA requests that if at all possible, you contact the individual listed in the FOR FURTHER INFORMATION CONTACT section to view the hard copy of the docket. You may view the hard copy of the docket Monday through Friday, 8:00 a.m. to 4:00 p.m., excluding Federal holidays.

FOR FURTHER INFORMATION CONTACT: Laurel Dygowski, Air Program, U.S. Environmental Protection Agency, Region 8, Mailcode 8P-AR, 1595 Wynkoop, Denver, Colorado 80202-1129, (303) 312-6144, dygowski.laurel@epa.gov.

SUPPLEMENTARY INFORMATION:

Definitions

For the purpose of this document, we are giving meaning to certain words or initials as follows:

i. The words or initials Act or CAA mean or refer to the Clean Air Act, unless the context indicates otherwise.

ii. The initials BART mean or refer to Best Available Retrofit Technology.

iii. The initials CAC mean or refer to clean air corridors.

iv. The initials CEED mean or refer to the Center for Energy and Economic Development.

v. The initials EC mean or refer to elemental carbon.

vi. The initials EGUs mean or refer to electric generating units.

vii. The initials EATS mean or refer to Emissions and Allowance Tracking System

viii. The words EPA, we, us or our mean or refer to the United States Environmental Protection Agency.

ix. The initials FETS mean or refer to the Fire Emission Tracking System.

x. The initials GCVTC mean or refer to the Grand Canyon Visibility Transport Commission.

xi. The initials IMPROVE mean or refer to Interagency Monitoring of Protected Visual Environments monitoring network.

xii. The initials MRR mean or refer to monitoring, recordkeeping, and reporting.

xiii. The initials NOX mean or refer to nitrogen oxides.

xiv. The initials OC mean or refer to organic carbon.

xv. The initials PM2.5 mean or refer to particulate matter with an aerodynamic diameter of less than 2.5 micrometers.

xvi. The initials PM10 mean or refer to particulate matter with an aerodynamic diameter of less than 10 micrometers.

xvii. The initials RHR mean or refer to the Regional Haze Rule.

xviii. The initials RMC mean or refer to the Regional Modeling Center.

xix. The initials RPO mean or refer to regional planning organization.

xx. The initials SIP mean or refer to State Implementation Plan.

xxi. The initials SO2 mean or refer to sulfur dioxide.

xxii. The initials TSA mean or refer to the tracking system administrator.

xxiii. The initials TSD mean or refer to Technical Support Document.

xxiv. The initials VOC mean or refer to volatile organic compounds.

xxv. The initials WAQSR mean or refer to Wyoming Air Quality Standards and Regulations.

xxvi. The initials WRAP mean or refer to the Western Regional Air Partnership.

xxvii. The words Wyoming and State mean or refer to the State of Wyoming.

Table of Contents

I. General Information

A. What should I consider as I prepare my comments for EPA?

B. Overview of Proposed Action

II. Background Information

A. Regional Haze

B. Requirements of the CAA and EPA's Regional Haze Rule

C. Role of Agencies in Addressing Regional Haze

D. Development of the Requirements for 40 CFR 51.309

III. Requirements for Regional Haze SIPs Submitted Under 40 CFR 51.309

A. Projection of Visibility Improvement

B. Clean Air Corridors (CACs)

C. Stationary Source Reductions

1. Sulfur Dioxide Emission Reductions

2. Provisions for Stationary Source Emissions of Nitrogen Oxides and Particulate Matter

D. Mobile Sources

E. Programs Related to Fire

F. Paved and Unpaved Road Dust

G. Pollution Prevention

H. Additional Recommendations

I. Periodic Implementation Plan Revisions

J. Interstate Coordination

IV. Additional Requirements for Alternative Programs Under the Regional Haze Rule

A. “Better-than-BART” Demonstration

B. Elements Required for All Alternative Programs That Have an Emissions Cap

1. Applicability

2. Allowances

3. Monitoring Recordkeeping, and Reporting

4. Tracking System

5. Account Representative

6. Allowance Transfer

7. Compliance Provisions

8. Penalty Provisions

9. Banking of Allowances

10. Program Assessment

V. Our Analysis of Wyoming's Submittal

A. Projection of Visibility Improvement

B. Clean Air Corridors

1. Comprehensive Emissions Tracking Program

2. Identification of Clean Air Corridors

3. Patterns of Growth Within and Outside of the Clean Air Corridor

4. Actions if Impairment Inside or Outside the Clean Air Corridor Occurs

5. Other Clean Air Corridors

C. Stationary Source Reductions

1. Provisions for Stationary Source Emissions of Sulfur Dioxide

2. Documentation of Emissions Calculation Methods for Sulfur Dioxide

3. Monitoring, Recordkeeping, and Reporting of Sulfur Dioxide Emissions

4. Criteria and Procedures for a Market Trading Program

5. Market Trading Program

6. Provisions for the 2018 Milestone

7. Special Penalty Provision for 2018

D. “Better-than-BART” Demonstration

1. List of BART-Eligible Sources

2. Subject-to-BART Determination

3. Best System of Continuous Emission Control Technology

4. Projected Emission Reductions

5. Evidence That the Trading Program Achieves Greater Reasonable Progress Than BART

6. All Emissions Reductions Must Take Place During the First Planning Period

7. Detailed Description of the Alternative Program

8. Surplus Reductions

9. Geographic Distribution of Emissions

E. Requirements for Alternative Programs With an Emissions Cap

1. Applicability Provisions

2. Allowance Provisions

3. Monitoring, Recordkeeping, and Reporting

4. Tracking System

5. Account Representative

6. Allowance Transfers

7. Compliance Provisions

8. Penalty Provisions

9. Banking of Allowances

10. Program Assessment

F. Provisions for Stationary Source Emissions of Nitrogen Oxides and Particulate Matter

G. Mobile Sources

H. Programs Related to Fire

1. Evaluation of Current Fire Programs

a. Actions To Minimize Emissions

b. Evaluation of Smoke Dispersion

c. Alternatives to Fire

d. Public Notification

e. Air Quality Monitoring

f. Surveillance and Enforcement

g. Program Evaluation

2. Inventory and Tracking System

3. Strategy for Use of Alternatives to Burning

4. Enhanced Smoke Management Program

5. Annual Emission Goal

I. Paved and Unpaved Road Dust

J. Pollution Prevention

1. Description of Existing Pollution Prevention Programs

2. Incentive Programs

3. Programs To Preserve and Expand Energy Conservation Efforts

4. Potential for Renewable Energy

5. Projections of Renewable Energy Goals, Energy Efficiency, and Pollution Prevention Activities

6. Programs To Achieve the GCVTC Renewable Energy Goal

K. Additional Recommendations

L. Periodic Implementation Plan Revisions

M. Interstate Coordination

N. Additional Class I Areas

VI. Proposed Action

VII. Statutory and Executive Order Reviews

I. General Information

A. What should I consider as I prepare my comments for EPA?

1. Submitting CBI. Do not submit CBI to EPA through http://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

B. Overview of Proposed Action

In this action, EPA is proposing to approve Wyoming SIP revisions submitted on January 12, 2011 and April 19, 2012 that address the regional haze rule (RHR) for the mandatory Class I areas under 40 CFR 51.309. EPA is proposing that the January 12, 2011 and April 19, 2012 SIPs meet the requirements of 40 CFR 51.309, with the exception of 40 CFR 51.309(d)(4)(vii), and 40 CFR 51.309(g), as explained below.

As part of the January 12, 2011 and April 19, 2012 SIPs, the State submitted revisions to the Wyoming Air Quality Standards and Regulations (WAQSR). The State submitted WAQSR Chapter 14, Sections 2 and 3—Emission Trading Program Regulations. WAQSR Chapter 14, in conjunction with the SIP, implements the backstop trading program provisions in accordance with the applicable requirements of 40 CFR 51.308 and 40 CFR 51.309. We are proposing to approve WAQSR Chapter 14, Section 2 and Section 3. The State also submitted WAQSR Chapter 10, Section 4—Smoke Management. WAQSR Chapter 10, Section 4, in conjunction with the SIP, implements the requirements for smoke management under 40 CFR 51.309(d)(6). We are proposing to approve WAQSR Chapter 10, Section 4.

The State's submitted another SIP revision dated January 12, 2011 that addresses the requirements under 40 CFR 51.309(d)(4)(vii) and 40 CFR 51.309(g) pertaining to best available retrofit technology (BART) for particulate matter (PM) and nitrogen oxides (NOX) and additional Class I areas, respectively. EPA will be taking action on this SIP at a later date. In addition, the January 12, 2011 and April 19, 2012 submittals we are proposing to act on in this notice supersede and replace regional haze SIPs submitted on December 24, 2003, May 27, 2004, and November 21, 2008.

As explained in further detail below, 40 CFR 51.309 (section 309) allows western states an optional way to fulfill the RHR requirements as opposed to adopting the requirements under 40 CFR 51.308. Three states have elected to submit a SIP under 40 CFR 51.309. Those states are Wyoming, Utah, and New Mexico.¹ In this action, EPA is proposing to approve the Wyoming section 309 SIP submittal. As required by 40 CFR 51.309, the participating states must adopt a trading program, or what has been termed the Western Backstop Sulfur Dioxide Trading Program (backstop trading program or trading program). The 309 backstop trading program will not be effective until EPA has finalized action on all section 309 SIPs as the program is dependent on the participation of the three states. Utah submitted its 309 SIP to EPA on May 26, 2011 and New Mexico submitted its 309 SIP to EPA on June 30, 2011. EPA will be taking action on Utah and New Mexico's 309 SIPs separately. If EPA takes action approving the necessary components of the 309 backstop trading program to operate in all of the jurisdictions electing to submit 309 SIPs, the trading program will become effective.

¹ In addition to the SIP submittals from the three states, Albuquerque/Bernalillo County in New Mexico must also submit a Section 309 RH SIP to completely satisfy the requirements of section 110(a)(2)(D) of the CAA for the entire State of New Mexico under the New Mexico Air Quality Control Act (section 74-2-4). Albuquerque submitted its regional haze SIP to EPA on June 8, 2011. When we refer to New Mexico in this notice, we are also referring to Albuquerque/Bernalillo County.

II. Background Information

A. Regional Haze

Regional haze is visibility impairment that is produced by a multitude of sources and activities which are located across a broad geographic area and emit fine particles (PM2.5) (e.g., sulfates, nitrates, organic carbon (OC), elemental carbon (EC), and soil dust), and their precursors (e.g., SO2, NOX, and in some cases, ammonia (NH3) and volatile organic compounds (VOC)). Fine particle precursors react in the atmosphere to form PM2.5, which impairs visibility by scattering and absorbing light. Visibility impairment reduces the clarity, color, and visible distance that one can see. PM2.5 can also cause serious health effects and mortality in humans and contributes to environmental effects such as acid deposition and eutrophication.

Data from the existing visibility monitoring network, the “Interagency Monitoring of Protected Visual Environments” (IMPROVE) monitoring network, show that visibility impairment caused by air pollution occurs virtually all the time at most national park and wilderness areas. The average visual range ² in many Class I areas (i.e., national parks and memorial parks, wilderness areas, and international parks meeting certain size criteria) in the western United States is 100-150 kilometers, or about one-half to two-thirds of the visual range that would exist without anthropogenic air pollution. In most of the eastern Class I areas of the United States, the average visual range is less than 30 kilometers, or about one-fifth of the visual range that would exist under estimated natural conditions. 64 FR 35715 (July 1, 1999).

² Visual range is the greatest distance, in kilometers or miles, at which a dark object can be viewed against the sky.

B. Requirements of the CAA and EPA's Regional Haze Rule

In section 169A of the 1977 Amendments to the CAA, Congress created a program for protecting visibility in the nation's national parks and wilderness areas. This section of the CAA establishes as a national goal the “prevention of any future, and the remedying of any existing, impairment of visibility in mandatory Class I Federal areas ³ which impairment results from manmade air pollution.” On December 2, 1980, EPA promulgated regulations to address visibility impairment in Class I areas that is “reasonably attributable” to a single source or small group of sources, i.e., “reasonably attributable visibility impairment.” 45 FR 80084. These regulations represented the first phase in addressing visibility impairment. EPA deferred action on regional haze that emanates from a variety of sources until monitoring, modeling and scientific knowledge about the relationships between pollutants and visibility impairment were improved.

³ Areas designated as mandatory Class I Federal areas consist of national parks exceeding 6000 acres, wilderness areas and national memorial parks exceeding 5000 acres, and all international parks that were in existence on August 7, 1977. 42 U.S.C. 7472(a). In accordance with section 169A of the CAA, EPA, in consultation with the Department of Interior, promulgated a list of 156 areas where visibility is identified as an important value. 44 FR 69122 (November 30, 1979). The extent of a mandatory Class I area includes subsequent changes in boundaries, such as park expansions. 42 U.S.C. 7472(a). Although states and tribes may designate as Class I additional areas which they consider to have visibility as an important value, the requirements of the visibility program set forth in section 169A of the CAA apply only to “mandatory Class I Federal areas.” Each mandatory Class I Federal area is the responsibility of a “Federal Land Manager.” 42 U.S.C. 7602(i). When we use the term “Class I area” in this action, we mean a “mandatory Class I Federal area.”

Congress added section 169B to the CAA in 1990 to address regional haze issues. EPA promulgated a rule to address regional haze on July 1, 1999. 64 FR 35714 (July 1, 1999, codified at 40 CFR part 51, subpart P). The RHR revised the existing visibility regulations to integrate into the regulation provisions addressing regional haze impairment and established a comprehensive visibility protection program for Class I areas. The requirements for regional haze, found at 40 CFR 51.308 and 51.309, are included in EPA's visibility protection regulations at 40 CFR 51.300-309. Some of the main elements of the regional haze requirements under 40 CFR 51.309 are summarized in sections III and IV of this preamble. The requirement to submit a regional haze SIP applies to all 50 states, the District of Columbia and the Virgin Islands. 40 CFR 51.308(b) and 40 CFR 51.309(c) require states to submit the first implementation plan addressing regional haze visibility impairment no later than December 17, 2007.⁴

⁴ EPA's regional haze regulations require subsequent updates to the regional haze SIPs. 40 CFR 51.308(g)-(i).

Few states submitted a regional haze SIP prior to the December 17, 2007 deadline, and on January 15, 2009, EPA found that 37 states, including Wyoming and the District of Columbia, and the Virgin Islands, had failed to submit SIPs addressing the regional haze requirements. 74 FR 2392. Once EPA has found that a state has failed to make a required submission, EPA is required to promulgate a FIP within two years unless the state submits a SIP and the Agency approves it within the two year period. CAA § 110(c)(1).

C. Roles of Agencies in Addressing Regional Haze

Successful implementation of the regional haze program will require long-term regional coordination among states, tribal governments and various federal agencies. As noted above, pollution affecting the air quality in Class I areas can be transported over long distances, even hundreds of kilometers. Therefore, to effectively address the problem of visibility impairment in Class I areas, states need to develop strategies in coordination with one another, taking into account the effect of emissions from one jurisdiction on the air quality in another.

Because the pollutants that lead to regional haze can originate from sources located across broad geographic areas, EPA has encouraged the states and tribes across the United States to address visibility impairment from a regional perspective. Five regional planning organizations (RPOs) were developed to address regional haze and related issues. The RPOs first evaluated technical information to better understand how their states and tribes impact Class I areas across the country, and then pursued the development of regional strategies to reduce emissions of PM and other pollutants leading to regional haze.

The Western Regional Air Partnership (WRAP) RPO is a collaborative effort of state governments, tribal governments, and various federal agencies established to initiate and coordinate activities associated with the management of regional haze, visibility and other air quality issues in the western United States. WRAP member state governments include: Alaska, Arizona, California, Colorado, Idaho, Montana, New Mexico, North Dakota, Oregon, South Dakota, Utah, Washington, and Wyoming. Tribal members include Campo Band of Kumeyaay Indians, Confederated Salish and Kootenai Tribes, Cortina Indian Rancheria, Hopi Tribe, Hualapai Nation of the Grand Canyon, Native Village of Shungnak, Nez Perce Tribe, Northern Cheyenne Tribe, Pueblo of Acoma, Pueblo of San Felipe, and Shoshone-Bannock Tribes of Fort Hall.

D. Development of the Requirements for 40 CFR 51.309

EPA's RHR provides two paths to address regional haze. One is 40 CFR 51.308, requiring states to perform individual point source BART determinations and evaluate the need for other control strategies. These strategies must be shown to make “reasonable progress” in improving visibility in Class I areas inside the state and in neighboring jurisdictions. The other method for addressing regional haze is through 40 CFR 51.309, and is an option for nine states termed the “Transport Region States” which include: Arizona, California, Colorado, Idaho, Nevada, New Mexico, Oregon, Utah, and Wyoming, and the 211 tribes located within those states. By meeting the requirements under 40 CFR 51.309, states are making reasonable progress toward the national goal of achieving natural visibility conditions for the 16 Class I areas on the Colorado Plateau.

Section 309 requires participating states to adopt regional haze strategies that are based on recommendations from the Grand Canyon Visibility Transport Commission (GCVTC) for protecting the 16 Class I areas on the Colorado Plateau.⁵ The EPA established the GCVTC on November 13, 1991. The purpose of the GCVTC was to assess information about the adverse impacts on visibility in and around the 16 Class I areas on the Colorado Plateau and to provide policy recommendations to EPA to address such impacts. Section 169B of the CAA called for the GCVTC to evaluate visibility research, as well as other available information, pertaining to adverse impacts on visibility from potential or projected growth in emissions from sources located in the region. The GCVTC determined that all transport region states could potentially impact the Class I areas on the Colorado Plateau. The GCVTC submitted a report to EPA in 1996 with its policy recommendations for protecting visibility for the Class I areas on the Colorado Plateau. Provisions of the 1996 GCVTC report include: strategies for addressing smoke emissions from wildland fires and agricultural burning; provisions to prevent pollution by encouraging renewable energy development; and provisions to manage clean air corridors (CACs), mobile sources, and wind-blown dust, among other things. The EPA codified these recommendations as part of the 1999 RHR. 64 FR 35714 (July 1, 1999).

⁵ The Colorado Plateau is a high, semi-arid tableland in southeast Utah, northern Arizona, northwest New Mexico, and western Colorado. The 16 mandatory Class I areas are as follows: Grand Canyon National Park, Mount Baldy Wilderness, Petrified Forest National Park, Sycamore Canyon Wilderness, Black Canyon of the Gunnison National Park Wilderness, Flat Tops Wilderness, Maroon Bells Wilderness, Mesa Verde National Park, Weminuche Wilderness, West Elk Wilderness, San Pedro Parks Wilderness, Arches National Park, Bryce Canyon National Park, Canyonlands National Park, Capital Reef National Park, and Zion National Park.

EPA determined that the GCVTC strategies would provide for reasonable progress in mitigating regional haze if supplemented by an annex containing quantitative emission reduction milestones and provisions for a trading program or other alternative measure (64 FR 35749 and 35756). Thus, the 1999 RHR required that western states submit an annex to the GCVTC report with quantitative milestones and detailed guidelines for an alternative program in order to establish the GCVTC recommendations as an alternative approach to fulfilling the section 308 requirements for compliance with the RHR. In September 2000, the WRAP, which is the successor organization to the GCVTC, submitted an annex to EPA. The annex contained SO2 emission reduction milestones and the detailed provisions of a backstop trading program to be implemented automatically if voluntary measures failed to achieve the SO2 milestones. EPA codified the annex on June 5, 2003 at 40 CFR 51.309(h). 68 FR 33764.

Five western states submitted implementation plans under section 309 in 2003. EPA was challenged by the Center for Energy and Economic Development (CEED) on the validity of the annex provisions. In CEED v. EPA, the DC Circuit vacated EPA's approval of the WRAP annex (Center for Energy and Economic Development v. EPA, No. 03-1222 (DC Cir. Feb. 18, 2005)). In response to the court's decision, EPA vacated the annex requirements adopted as 40 CFR 51.309(h), but left in place the stationary source requirements in 40 CFR 51.309(d)(4). 71 FR 60612. The requirements under 40 CFR 51.309(d)(4) contain general requirements pertaining to stationary sources and market trading, and allow states to adopt alternatives to the point source application of BART.

III. Requirements for Regional Haze SIPs Submitted Under 40 CFR 51.309

The following is a summary and basic explanation of the regulations covered under section 51.309 of the RHR. See 40 CFR 51.309 for a complete listing of the regulations under which this SIP was evaluated.

A. Projection of Visibility Improvement

For each of the 16 Class I areas located on the Colorado Plateau, the SIP must include a projection of the improvement in visibility expressed in deciviews. 40 CFR 51.309(d)(2). The RHR establishes the deciview as the principal metric or unit for expressing visibility. See 70 FR 39104, 39118. This visibility metric expresses uniform changes in the degree of haze in terms of common increments across the entire range of visibility conditions, from pristine to extremely hazy conditions. Visibility expressed in deciviews is determined by using air quality measurements to estimate light extinction and then transforming the value of light extinction using a logarithm function. The deciview is a more useful measure for tracking progress in improving visibility than light extinction itself because each deciview change is an equal incremental change in visibility perceived by the human eye. Most people can detect a change in visibility at one deciview.⁶ States need to show the projected visibility improvement for the best and worst 20 percent days through the year 2018, based on the application of all section 309 control strategies.

⁶ The preamble to the RHR provides additional details about the deciview. 64 FR 35714, 35725 (July 1, 1999).

B. Clean Air Corridors (CACs)

Pursuant to 40 CFR 51.309(d)(3), states must identify CACs. CACs are geographic areas located within transport region states that contribute to the best visibility days (least impaired) in the 16 Class I areas on the Colorado Plateau. The CAC as described in the 1996 GCVTC report covers nearly all of Nevada, large portions of Oregon, Idaho, and Utah, and encompasses several Indian nations. In order to meet the RHR requirements for CACs, states must adopt a comprehensive emissions tracking program for all visibility impairing pollutants within the CAC. Based on the emissions tracking, states must identify overall emissions growth or specific areas of emissions growth in and outside of the CAC that could be significant enough to result in visibility impairment at one or more of the 16 Class I areas. If there is visibility impairment in the CAC, states must conduct an analysis of the potential impact in the 16 Class I areas and determine if additional emission control measures are needed and how these measures would be implemented. States must also indicate in their SIP if any other CACs exist, and if others are found, provide necessary measures to protect against future degradation of visibility in the 16 Class I areas.

C. Stationary Source Reductions

1. Sulfur Dioxide Emission Reductions

Section 169A of the CAA directs states to evaluate the use of retrofit controls at certain larger, often uncontrolled, older stationary sources in order to address their visibility impacts. Specifically, section 169A(b)(2)(A) of the CAA requires states to revise their SIPs to contain such measures as may be necessary to make reasonable progress towards the natural visibility goal, including a requirement that certain categories of existing major stationary sources built between 1962 and 1977 procure, install, and operate BART as determined by the state. Under the RHR, states are directed to conduct BART determinations for such “BART-eligible” sources that may be anticipated to cause or contribute to any visibility impairment in a Class I area.

Rather than requiring source-specific BART controls, states have the flexibility under section 309 to adopt an emissions trading program or other alternative program as long as the alternative provides greater reasonable progress than would be achieved by the application of BART pursuant to 40 CFR 51.309(e)(2). Under 40 CFR 51.309, states can satisfy the section 308 SO2 BART requirements by adopting SO2 emission milestones and a backstop trading program. 40 CFR 51.309(d)(4). Under this approach, states must establish declining SO2 emission milestones for each year of the program through 2018. The milestones must be consistent with the GCTVC's goal of 50 to 70 percent reduction in SO2 emissions by 2040. If the milestones are exceeded in any year, the backstop trading program is triggered.

Pursuant to 40 CFR 51.309(d)(4)(ii)-(iv), states must include requirements in the SIP that allow states to determine whether the milestone has been exceeded. These requirements include documentation of the baseline emission calculation, monitoring, recordkeeping, and reporting (MRR) of SO2 emissions, and provisions for conducting an annual evaluation to determine whether the milestone has been exceeded. SIPs must also contain requirements for implementing the backstop trading program in the event that the milestone is exceeded and the program is triggered. 40 CFR 51.309(d)(4)(v).

The WRAP, in conjunction with EPA, developed a model for a backstop trading program. In order to ensure consistency between states, states opting to participate in the 309 program need to adopt rules that are substantively equivalent to the model rules for the backstop trading program to meet the requirements of 40 CFR 51.309(d)(4). The trading program must also be implemented no later than 15 months after the end of the first year that the milestone is exceeded, require that sources hold allowances to cover their emissions, and provide a framework, including financial penalties, to ensure that the 2018 milestone is met.

2. Provisions for Stationary Source Emissions of Nitrogen Oxides and Particulate Matter

Pursuant to 40 CFR 51.309(d)(4)(vii), a section 309 SIP must contain any necessary long term strategies and BART requirements for PM and NOX. Section 169A of the CAA directs states to evaluate the use of retrofit controls at certain larger, often uncontrolled, older stationary sources in order to address visibility impacts from these sources. Specifically, section 169A(b)(2)(A) of the CAA requires states to revise their SIPs to contain such measures as may be necessary to make reasonable progress towards the natural visibility goal, including a requirement that certain categories of existing major stationary sources⁷ built between 1962 and 1977 procure, install, and operate the “Best Available Retrofit Technology” as determined by the state.

⁷ The set of “major stationary sources” potentially subject-to-BART is listed in CAA section 169A(g)(7).

On July 6, 2005, EPA published the Guidelines for BART Determinations Under the Regional Haze Rule at appendix Y to 40 CFR part 51 (hereinafter referred to as the “BART Guidelines”) to assist states in determining which of their sources should be subject to the BART requirements and in determining appropriate emission limits for each applicable source. 70 FR 39104. In making a BART determination for a fossil fuel-fired electric generating plant with a total generating capacity in excess of 750 megawatts (MW), a state must use the approach set forth in the BART Guidelines. A state is encouraged, but not required, to follow the BART Guidelines in making BART determinations for other types of sources. Regardless of source size or type, a state must meet the requirements of the CAA and our regulations for selection of BART, and the state's BART analysis and determination must be reasonable in light of the overarching purpose of the regional haze program.

The process of establishing BART emission limitations can be logically broken down into three steps: first, states identify those sources which meet the definition of “BART-eligible source” set forth in 40 CFR 51.301 ⁸; second, states determine which of such sources “emits any air pollutant which may reasonably be anticipated to cause or contribute to any impairment of visibility in any such area” (a source which fits this description is “subject-to-BART”); and third, for each source subject-to-BART, states then identify the best available type and level of control for reducing emissions.

⁸ BART-eligible sources are those sources that have the potential to emit 250 tons or more of a visibility-impairing air pollutant, were not in operation prior to August 7, 1962, but were in existence on August 7, 1977, and whose operations fall within one or more of 26 specifically listed source categories. 40 CFR 51.301.

States must address all visibility-impairing pollutants emitted by a source in the BART determination process. The most significant visibility impairing pollutants are SO2, NOX, and PM. EPA has stated that states should use their best judgment in determining whether VOC or NH3 compounds impair visibility in Class I areas.

Under the BART Guidelines, states may select an exemption threshold value for their BART modeling, below which a BART-eligible source would not be expected to cause or contribute to visibility impairment in any Class I area. The state must document this exemption threshold value in the SIP and must state the basis for its selection of that value. Any source with emissions that model above the threshold value would be subject to a BART determination review. The BART Guidelines acknowledge varying circumstances affecting different Class I areas. States should consider the number of emission sources affecting the Class I areas at issue and the magnitude of the individual sources' impacts. Any exemption threshold set by the state should not be higher than 0.5 deciview. 40 CFR part 51, appendix Y, section III.A.1.

In their SIPs, states must identify the sources that are subject-to-BART and document their BART control determination analyses for such sources. In making their BART determinations, section 169A(g)(2) of the CAA requires that states consider the following factors when evaluating potential control technologies: (1) The costs of compliance; (2) the energy and non-air quality environmental impacts of compliance; (3) any existing pollution control technology in use at the source; (4) the remaining useful life of the source; and (5) the degree of improvement in visibility which may reasonably be anticipated to result from the use of such technology.

A regional haze SIP must include source-specific BART emission limits and compliance schedules for each source subject-to-BART. Once a state has made its BART determination, the BART controls must be installed and in operation as expeditiously as practicable, but no later than five years after the date of EPA approval of the regional haze SIP. CAA section 169(g)(4) and 40 CFR 51.308(e)(1)(iv). In addition to what is required by the RHR, general SIP requirements mandate that the SIP must also include all regulatory requirements related to MRR for the BART controls on the source. See CAA section 110(a). As noted above, the RHR allows states to implement an alternative program in lieu of BART so long as the alternative program can be demonstrated to achieve greater reasonable progress toward the national visibility goal than would BART.

D. Mobile Sources

Under 40 CFR 51.309(d)(5), states must provide inventories of on-road and non-road mobile source emissions of VOCs, NOX, SO2, PM2.5, EC, and OC for the years 2003, 2008, 2013, and 2018. The inventories must show a continuous decline in total mobile source emissions of each of the above pollutants. If the inventories show a continuous decline in total mobile source emissions of each of these pollutants over the period 2003-2018, a state is not required to take further action in their SIP. If the inventories do not show a continuous decline in mobile source emissions of one or more of these pollutants over the period 2003-2018, a state must submit a SIP that contains measures that will achieve a continuous decline.

The SIP must also contain any long-term strategies necessary to reduce emissions of SO2 from non-road mobile sources, consistent with the goal of reasonable progress. In assessing the need for such long-term strategies, the state may consider emissions reductions achieved or anticipated from any new federal standards for sulfur in non-road diesel fuel. Section 309 SIPs must provide an update on any additional mobile source strategies implemented within the state related to the GCVTC 1996 recommendations on mobile sources.

E. Programs Related to Fire

Pursuant to 40 CFR 51.309(d)(6), SIPs must contain requirements for programs related to fire. The SIP must show that the state's smoke management program, and all federal or private programs for prescribed fire in the state, have a mechanism in place for evaluating and addressing the degree of visibility impairment from smoke in their planning and application of burning. The state must also ensure that its prescribed fire smoke management programs have at least the following seven elements: (1) Actions to minimize emissions; (2) evaluation of smoke dispersion; (3) alternatives to fire; (4) public notification; (5) air quality monitoring; (6) surveillance and enforcement; and (7) program evaluation. The state must be able to track statewide emissions of VOC, NOX, EC, OC, and PM2.5 emissions from prescribed burning in its state.

Other requirements states must meet in their 309 plan related to fire include the adoption of a statewide process for gathering post-burn activity information to support emissions inventory and tracking systems. States must identify existing administrative barriers to the use of non-burning alternatives and adopt a process for continuing to identify and remove administrative barriers where feasible. The SIP must include an enhanced smoke management program that considers visibility effects in addition to health objectives and is based on the criteria of efficiency, economics, law, emission reduction opportunities, land management objectives, and reduction of visibility impairment. Finally, a state must establish annual emission goals to minimize emission increases from fire.

F. Paved and Unpaved Road Dust

Under 40 CFR 51.309(d)(7), states must submit a SIP that assesses the impact of dust emissions on regional haze in the 16 Class I areas on the Colorado Plateau and to include a projection of visibility conditions through 2018 for the least and most impaired days. If dust emissions are determined to be a significant contributor to visibility impairment, the state must include emissions management strategies in the SIP to address their impact.

G. Pollution Prevention

The requirements under the RHR for pollution prevention only require the state to provide an assessment of the energy programs as outlined in 40 CFR 51.309(d)(8) and does not require a state to adopt any specific energy-related strategies or regulations for regional haze. In order to meet the requirements related to pollution prevention, the state's plan must include an initial summary of all pollution prevention programs currently in place, an inventory of all renewable energy generation capacity and production in use or planned as of the year 2002, the total energy generation capacity and production for the state, and the percent of the total that is renewable energy.

The state's plan must include a discussion of programs that provide incentives for efforts that go beyond compliance and/or achieve early compliance with air-pollution related requirements and programs to preserve and expand energy conservation efforts. The state must identify specific areas where renewable energy has the potential to supply power where it is now lacking and where renewable energy is most cost-effective. The state must include projections of the short and long-term emissions reductions, visibility improvements, cost savings, and secondary benefits associated with renewable energy goals, energy efficiency, and pollution prevention activities. The state must also provide its anticipated contribution toward the GCVTC renewable energy goals for 2005 and 2015. The GCVTC goals are that renewable energy will comprise 10 percent of the regional power needs by 2005 and 20 percent by 2015.

H. Additional Recommendations

Section 309 requires states to determine if any of the other recommendations not codified by EPA as part of 40 CFR 51.309, should be implemented in their SIP. 40 CFR 51.309(d)(9). States are not required to adopt any additional control measures unless the state determines they are appropriate and can be practicably included as enforceable measures to remedy regional haze in the 16 Class I areas. Any measures adopted by a state would need to be enforceable. States must also submit a report to EPA and the public in 2013 and 2018 showing there has been an evaluation of the additional recommendations and the progress toward developing and implementing any such recommendations.

I. Periodic Implementation Plan Revisions

Under 40 CFR 51.309(d)(10), states must submit progress reports in the form of SIP revisions in 2013 and 2018. The SIP revisions must comply with the procedural requirements of 40 CFR 51.102 for public hearings and 40 CFR 51.103 for submission of plans. The assessment in the progress report must include an evaluation of Class I areas located within the state and Class I areas outside the state that are affected by emissions from the state. EPA views these SIP revisions as a periodic check on progress, rather than a thorough revision of regional strategies. The state should focus on significant shortcomings of the original SIP from sources that were not fully accounted for or anticipated when the SIP was initially developed. The specifics of what each progress report must contain can be found at 40 CFR 51.509(d)(10)(i)(A)-(G).

At the same time that the state submits its progress report to EPA, it must also take an action based on the outcome of the assessment in the report. If the assessment shows that the SIP is adequate and requires no substantive revision, the state must submit to EPA a “negative declaration” statement saying that no further SIP revisions are necessary at this time. If the assessment shows that the SIP is or may be inadequate due to emissions from outside the state, the state must notify EPA and other regional planning states and work with them to develop additional control strategies. If the assessment shows that the SIP is or may be inadequate due to emissions from another country, the state must include appropriate notification to EPA in its SIP revision. In the event the assessment shows that the SIP is or may be inadequate due to emissions from within the state, the state shall develop additional strategies to address the deficiencies and revise the SIP within one year from the due date of the progress report.

J. Interstate Coordination

In complying with the requirements of 40 CFR 51.309(d)(11), states may include emission reductions strategies that are based on coordinated implementation with other states. The SIP must include documentation of the technical and policy basis for the individual state apportionment (or the procedures for apportionment throughout the trans-boundary region), the contribution addressed by the state's plan, how it coordinates with other state plans, and compliance with any other appropriate implementation plan approvability criteria. States may rely on the relevant technical, policy, and other analyses developed by a regional entity, such as the WRAP in providing such documentation.

IV. Additional Requirements for Alternative Programs Under the Regional Haze Rule

States opting to submit an alternative program, such as the backstop trading program under section 309, must also meet requirements under 40 CFR 51.308(e)(2) and (e)(3). These requirements for alternative programs relate to the “better-than-BART” test and fundamental elements of any alternative program that establishes a cap on emissions.

A. “Better-Than-BART” Demonstration

In order to demonstrate that the alternative program achieves greater reasonable progress than source-specific BART, states must provide a demonstration in their SIP that meets the requirements in 40 CFR 51.308(e)(2)(i)-(v). States submitting section 309 SIPs or other alternative programs are required to list all BART-eligible sources and categories covered by the alternative program. States are then required to determine which BART-eligible sources are “subject-to-BART.” The SIP must provide an analysis of the best system of continuous emission control technology available and the associated reductions for each source subject-to-BART covered by the alternative program, or what is termed a “BART benchmark.” Where the alternative program, such as the 309 backstop trading program, has been designed to meet requirements other than BART, states may use simplifying assumptions in establishing a BART benchmark. These assumptions can provide the baseline to show that the alternative program achieves greater reasonable progress than BART (71 FR 60619). Under this approach, states should use the presumptive limits for EGUs in the BART Guidelines to establish the BART benchmark used in the comparison, unless the state determines that such presumptions are not appropriate for particular EGUs (70 FR 60619).

The SIP must provide an analysis of the projected emissions reductions achievable through the trading program or other alternative measure and a determination that the trading program or other alternative measure achieves greater reasonable progress than would be achieved through the installation and operation of BART pursuant to 40 CFR 51.308(e)(1). 40 CFR 308(e)(2)(i)(D)-(E). Under 40 CFR 51.308(e)(2)(iii)-(iv), all emission reductions for the alternative program must take place by 2018, and all the emission reductions resulting from the alternative program must be surplus to those reductions resulting from measures adopted to meet requirements of the CAA as of the baseline date of the SIP. Pursuant to 40 CFR 51.309(e)(2)(v), states have the option of including a provision that the emissions trading program or other alternative measure include a geographic enhancement to the program to address the requirement under 40 CFR 51.302(c) related to BART for reasonably attributable visibility impairment from the pollutants covered under the emissions trading program or other alternative measure.

States must also address the distribution of emissions under the BART alternative as part of the better-than-BART demonstration. 40 CFR 51.308(e)(3). If a state can show that with the alternative program the distribution of emissions is not substantially different from source-specific BART, and the alternative program results in greater emission reductions than source-specific BART, then the alternative measure may be deemed to achieve greater reasonable progress. If the distribution of emissions is significantly different, the state must conduct dispersion modeling to determine differences in visibility between source-specific BART and the alternative program for each impacted Class I area for the 20% worst and best days. The modeling must show that visibility does not decline at any Class I area and that visibility overall is greater than what would be achieved with source-specific BART.

B. Elements Required for All Alternative Programs That Have an Emissions Cap

Under 40 CFR 51.308(e)(2)(vi)(A)-(L), EPA established fundamental requirements for trading or alternative programs that have an emissions cap and require sources to hold allowances that they can sell, buy, or trade, as in the case for the 309 backstop trading program. These requirements are summarized below.

1. Applicability

The alternative program must have applicability provisions that define the sources subject to the program. In the case of a program covering sources in multiple states, the states must demonstrate that the applicability provisions in each state cover essentially the same size facilities and, if source categories are specified, cover the same source categories.

2. Allowances

Allowances are a key feature of a cap and trade program. An allowance is a limited authorization for a source to emit a specified amount of a pollutant, as defined by the specific trading program, during a specified period. Allowances are fully marketable commodities. Once allocated, allowances may be bought, sold, traded, or banked for use in future years. EPA has not included in the rule detailed requirements on how states and tribes can allocate allowances. A state or tribe can determine how to allocate allowances as long as the allocation of the tonnage value of allowances does not exceed the total number of tons of emissions capped by the budget. The trading program must include allowance provisions ensuring that the total value of allowances issued each year under the program will not exceed the emissions cap on total annual emissions from the sources in the program.

3. Monitoring, Recordkeeping, and Reporting

MRR of a source's emissions are integral parts of any cap and trade program. Consistent and accurate measurement of emissions ensures that each allowance actually represents its specified tonnage value of emissions and that one ton of reported emissions from one source is equivalent to one ton of reported emissions at another source. The MRR provisions must require that boilers, combustion turbines, and cement kilns in the alternative program that are allowed to sell or transfer allowances comply with the requirements of 40 CFR part 75. The MRR provisions must require that other sources in the program allowed to sell or transfer allowances provide emissions information with the same precision, reliability, accessibility, and timeliness as information required by 40 CFR part 75.

4. Tracking System

An accurate and efficient tracking system is critical to the functioning of an emissions trading market. The tracking system must also be transparent, allowing all interested parties access to the information contained in the accounting system. Thus, alternative programs must have requirements for a tracking system that is publicly available in a secure, centralized database to track in a consistent manner all allowances and emissions in the program.

5. Account Representative

Each source owner or operator covered by the alternative program must designate an individual account representative who is authorized to represent the owner or operator in all matters pertaining to the trading program and who is responsible for the data reported for that source. The account representative will be responsible for, among other things, permitting, compliance, and allowance related actions.

6. Allowance Transfer

SIPs must contain provisions detailing a uniform process for transferring allowances among all sources covered by the program and other possible participants. The provisions must provide procedures for sources to request an allowance transfer, for the request and transfer to be recorded in the allowance tracking system, for notification to the source that the transfer has occurred, and for notification to the public of each transfer and request.

7. Compliance Provisions

Cap and trade programs must include compliance provisions that prohibit a source from emitting more emissions than the total tonnage value of allowances the source holds for that year. A cap and trade program must also contain the specific methods and procedures for determining compliance on an annual basis.

8. Penalty Provisions

In order to provide sources with a strong incentive to comply with the requirement to hold sufficient allowances for their emissions on an annual basis and to establish an immediate minimum economic consequence for non-compliance, the program must include a system for mandatory allowance deductions. SIPs must contain a provision that if a source has excess emissions in a given year, allowances allocated for the subsequent year will be deducted from the source's account in an amount at least equal to three times the excess emissions.

9. Banking of Allowances

The banking of allowances occurs when allowances that have not been used for compliance are set aside for use in a later compliance period. Alternative programs can include provisions for banked allowances, so long as the SIP clearly identifies how unused allowances may be used in future years and whether there are any restrictions on the use of any such banked allowances.

10. Program Assessment

The alternative program must include provisions for periodic assessment of the program. Such periodic assessments are a way to retrospectively assess the performance of the trading program in meeting the goals of the regional haze program and determining whether the trading program needs any adjustments or changes. At a minimum, the program evaluation must be conducted every five years to coincide with the periodic report describing progress towards the reasonable progress goals required under 40 CFR 51.308(g) and must be submitted to EPA.

V. Our Analysis of Wyoming's Submittal

The following summarizes how Wyoming's January 12, 2011 submittal meets the requirements of 40 CFR 51.309, with the exception of 40 CFR 51.309(d)(4)(iii), 40 CFR 51.309(d)(4)(vii), and 40 CFR 51.309(g), which as discussed above, EPA plans to propose action on in a future notice.

A. Projection of Visibility Improvement

Pursuant to 40 CFR 51.309(d)(2), Wyoming provided a comparison of the monitored 2000-2004 baseline visibility conditions in deciviews for the 20 percent best and 20 percent worst days to the projected visibility improvement for 2018 for the Class I areas on the Colorado Plateau (see section K.2 of the SIP). Table 1 shows the State's baseline monitoring data and projected visibility improvement for 2018 from the WRAP photochemical modeling (for details on the WRAP emission inventories and photochemical modeling refer to the WRAP Technical Support Document (TSD) ⁹ and our review of the technical products developed by the WRAP for the states in the western region, in support of their regional haze SIPs).¹⁰ The projected visibility improvement for the 2018 Base Case (referred to as the Base18b emission inventory and modeled projections) reflects growth plus all controls “on the books” as of December 2004. The projected visibility improvement for the Preliminary Reasonable Progress Case (referred to as the PRP18b emission inventory and modeled projections) reflects refined growth estimates, all controls “on the books” as of 2007, and includes presumptive or known SO2 BART controls. The modeling results show projected visibility improvement for the 20 percent worst days in 2018 and no degradation in visibility conditions on the 20 percent best days at all 16 Class I areas on the Colorado Plateau. We are proposing to determine the State's SIP satisfies the requirements of 40 CFR 51.309(d)(2).

⁹ WRAP Regional Technical Support Document for the Requirements of § 309 of the Regional Haze Rule (64 Federal Register 35714—July 1, 1999), revised May 7, 2008, which can be found in the State's TSD included in the docket of this action.

¹⁰ Our review of the technical products developed by the WRAP is available as Technical Support Document for Technical Products Prepared by the Western Regional Air Partnership (WRAP) in Support of Western Regional Haze Plans, February 28, 2011, which can be found in the Supporting and Related Materials section of the docket.

Table 1—Baseline and 2018 Visibility at the Colorado Plateau Class I Areas
Class I area | State | 20 Percent worst visibility days: 2000-2004 Baseline monitoring data (deciview) | 20 Percent worst visibility days: 2018 Base case (deciview) | 20 Percent worst visibility days: 2018 Preliminary reasonable progress case (deciview) | 20 Percent best visibility days: 2000-2004 Baseline monitoring data (deciview) | 20 Percent best visibility days: 2018 Base case (deciview) | 20 Percent best visibility days: 2018 Preliminary reasonable progress case (deciview)
Grand Canyon National Park | AZ | 11.7 | 11.4 | 11.3 | 2.2 | 2.2 | 2.1
Mount Baldy Wilderness | AZ | 11.9 | 11.5 | 11.4 | 3.0 | 2.9 | 2.8
Petrified Forest National Park | AZ | 13.2 | 12.9 | 12.9 | 5.0 | 4.9 | 4.8
Sycamore Canyon Wilderness | AZ | 15.3 | 15.1 | 15.1 | 5.6 | 5.6 | 5.6
Black Canyon of the Gunnison National Park Wilderness | CO | 10.3 | 10.1 | 9.9 | 3.1 | 2.9 | 2.9
Flat Tops Wilderness | CO | 9.6 | 9.2 | 9.0 | 0.7 | 0.6 | 0.5
Maroon Bells Wilderness | CO | 9.6 | 9.2 | 9.0 | 0.7 | 0.6 | 0.5
Mesa Verde National Park | CO | 13.0 | 12.8 | 12.6 | 4.3 | 4.1 | 4.0
Weminuche Wilderness | CO | 10.3 | 10.1 | 9.9 | 3.1 | 2.9 | 2.9
West Elk Wilderness | CO | 9.6 | 9.2 | 9.0 | 0.7 | 0.6 | 0.5
San Pedro Parks Wilderness | NM | 10.2 | 10.0 | 9.8 | 1.5 | 1.3 | 1.2
Arches National Park | UT | 11.2 | 11.0 | 10.9 | 3.8 | 3.6 | 3.5
Bryce Canyon National Park | UT | 11.6 | 11.3 | 11.2 | 2.8 | 2.7 | 2.6
Canyonlands National Park | UT | 11.2 | 11.0 | 10.9 | 3.8 | 3.6 | 3.5
Capitol Reef National Park | UT | 10.9 | 10.6 | 10.5 | 4.1 | 4.0 | 3.9
Zion National Park | UT | 13.2 | 13.0 | 13.0 | 5.0 | 4.7 | 4.7

B. Clean Air Corridors

1. Comprehensive Emissions Tracking Program

Pursuant to 40 CFR 51.309(d)(3), Wyoming is using a comprehensive emissions tracking system established by WRAP to track emissions within portions of Oregon, Idaho, Nevada and Utah that have been identified as part of the CAC (see section B.1(a) of the SIP). The emission tracking is to ensure that visibility does not degrade on the least-impaired days in any of the 16 Class I areas of the Colorado Plateau. For a complete description of the emission tracking system and the process by which the annual emission trends will be summarized in order to identify any significant emissions growth that could lead to visibility degradation in the 16 Class I areas, see Description of Comprehensive Emissions Tracking System in the Wyoming Technical Support Document (TSD). The TSD can be found in the docket for this notice.

2. Identification of Clean Air Corridors

Pursuant to 40 CFR 51.309(d)(3)(i), the State has provided the geographic boundaries of the CAC (a map of the CAC can be found in Section B of the SIP). The WRAP identified the CAC using studies conducted by the Meteorological Subcommittee of the GCVTC and then updated the CAC based on an assessment described in the WRAP Policy on Clean Air Corridors located in the Wyoming TSD. The technical studies and findings supporting the WRAP Policy on Clean Air Corridors are located in Chapter 3 of the WRAP TSD.

3. Patterns of Growth Within and Outside of the Clean Air Corridor

Pursuant to 40 CFR 51.309(d)(3)(ii)-(iii), the State has determined, based on the WRAP Policy on Clean Air Corridors and technical analysis conducted by the WRAP, that inside and outside the CAC there is no significant emissions growth occurring at this time that is causing visibility impairment in the 16 Class I areas of the Colorado Plateau. The WRAP will summarize annual emission trends within and outside of the CAC and will assess whether any significant emissions growth is occurring that could result in visibility impairment in any of the 16 Class I areas (see section B.1(c) of the SIP).

4. Actions if Impairment Inside or Outside the Clean Air Corridor Occurs

The State, in coordination with other transport region states and tribes, will review the annual summary of emission trends within the CAC and determine whether any significant emissions growth has occurred. If the State identifies significant emissions growth, the State, in coordination with other transport region states and tribes, will conduct an analysis of the effects of this emissions growth. Pursuant to 40 CFR 51.309(d)(3)(iv), if this analysis finds that the emissions growth is causing visibility impairment in the 16 Class I areas, the State will evaluate the need for additional emission reduction measures and identify an implementation schedule for such measures. The State will report on the need for additional reduction measures to EPA in accordance with the periodic progress reports required under 40 CFR 51.309(d)(10)(i) (see section B.1(d) and (e) of the SIP).

5. Other Clean Air Corridors

Pursuant to 40 CFR 51.309(d)(3)(v), the State has concluded that no other CACs can be identified at this time. The State's conclusion is based on the WRAP Policy on Clean Air Corridors, which determined that no other CACs could be identified (see section B.1(f) of the SIP).

We are proposing to determine that the State's SIP meets the requirements of 40 CFR 51.309(d)(3).

C. Stationary Source Reductions

1. Provisions for Stationary Source Emissions of Sulfur Dioxide

As required by 40 CFR 51.309(d)(4)(i), the State has adopted SO2 milestone numbers for each year of the program until 2018 (see section C.A1.1of the SIP).¹¹ Table 2 shows the milestone numbers and how compliance with the annual milestones will be determined.

¹¹ The milestone numbers reflect the participation of Wyoming, Utah, and New Mexico, including Albuquerque-Bernalillo County in the 309 backstop trading program.

Table 2—SO2 Emissions Milestones
Year | Regional sulfur dioxide milestone (tons per year (tpy)) | Annual SO2 emissions used to determine compliance with the annual milestones
2008 | 269,083 tons SO2 | Average of 2006, 2007 and 2008.
2009 | 234,903 tons SO2 | Average of 2007, 2008 and 2009.
2010 | 200,722 tons SO2 | Average of 2008, 2009 and 2010.
2011 | 200,722 tons SO2 | Average of 2009, 2010 and 2011.
2012 | 200,722 tons SO2 | Average of 2010, 2011 and 2012.
2013 | 185,795 tons SO2 | Average of 2011, 2012 and 2013.
2014 | 170,868 tons SO2 | Average of 2012, 2013 and 2014.
2015 | 155,940 tons SO2 | Average of 2013, 2014 and 2015.
2016 | 155,940 tons SO2 | Average of 2014, 2015 and 2016.
2017 | 155,940 tons SO2 | Average of 2015, 2016 and 2017.
2018 | 141,849 tons SO2 | Year 2018 only.
2019 forward, until replaced by an approved SIP | 141,849 tons SO2 | Annual; no multiyear averaging.

SO2 emissions from sources in 1990 totaled 358,364 tpy and the 2018 milestone is 141,849 tpy.¹² The difference is a 60 percent reduction in SO2 emissions from 1990 to 2018. Pursuant to 40 CFR 51.309(d)(4)(i), the State has concluded that the emission reductions are on target to achieve the GCVTC goal of a 50 to 70 percent reduction of SO2 emissions by 2040.

¹² See Demonstration that the SO2 Milestones Provide Greater Reasonable Progress than BART in section D of the State's TSD.

We are proposing to determine the State's SIP meets the requirements of 40 CFR 51.309(d)4)(i).

2. Documentation of Emissions Calculation Methods for Sulfur Dioxide

Pursuant to 40 CFR 51.309(d)(4)(ii), the SIP includes documentation of the specific methodology used to calculate SO2 emissions during the 2006 base year for each emitting unit included in the program (see Appendix E of the SIP). A detailed spreadsheet report that provides the baseline numbers and methodology used to calculate emissions for sources covered by the program is included in this docket.¹³

¹³ See 2006 Inventory Documentation in the Supporting and Related materials section of the docket.

Pursuant to 40 CFR 51.309(d)(4)(ii), the SIP requires the State to document any change to the specific methodology used to calculate emissions at any emitting unit for any year after the base year. Until the program has been triggered and source compliance is required, the State will submit an annual emissions report to EPA that documents prior year emissions for Wyoming sources covered by the 309 program to all participating states by September 30 of each year. The State will adjust actual emission inventories for sources that change the method of monitoring or calculating their emissions to be comparable to the emission monitoring or calculation method used to calculate the 2006 base year inventory (see section C.A3 of the SIP).

We are proposing to determine the State's SIP meets the requirements of 40 CFR 51.309(d)(4)(ii).

3. Monitoring, Recordkeeping, and Reporting of Sulfur Dioxide Emissions

In order to meet the emission reporting requirements of 40 CFR 51.309(d)(4)(iii), the SIP includes provisions requiring the monitoring, recordkeeping, and reporting of actual stationary source SO2 emissions within the State to determine if the milestone has been exceeded. The pre-trigger emission inventory requirements are covered by WAQSR Chapter 14, Section 3, which was included in Wyoming's April 19, 2012 submittal.

We are proposing to determine the State's SIP meets the requirements of 40 CFR 51.309(d)(4)(iii), and we are proposing to approve WAQSR Chapter 14, Section 3.

4. Criteria and Procedures for a Market Trading Program

Until the backstop trading program has been triggered and source compliance is required, the State shall submit an annual emissions report for Wyoming sources to all participating states by September 30th of each year. The report shall document actual SO2 emissions during the previous calendar year for all sources subject to the section 309 program. The WRAP will compile reports from all participating states into a draft regional emission report for SO2 by December 31st of each year. This report will include actual regional SO2 emissions, adjustments to account for changes in monitoring/calculation methods or enforcement/settlement agreements, and adjusted average emissions for the last three years for comparison to the regional milestone. As required by 40 CFR 51.309(d)(4)(iv), based on this compilation of reports from all states participating in the 309 program, states will determine if the milestone has been exceeded and will include a determination in a final regional emissions report that is submitted to EPA. This final report and determination will be submitted to EPA by the end of March, 15 months following the milestone year (see section C.A.3 of the SIP).

We are proposing to determine the State's SIP meets the requirements of 40 CFR 51.309(d)(4)(iv).

5. Market Trading Program

Per 40 CFR 51.309(d)(4)(v), the SIP provides that if the 309 backstop trading program is triggered, the regional emissions report will contain a common trigger date. In the absence of a common trigger date, the default date will be March 31st of the applicable year, but no later than 15 months after the end of the milestone year where the milestone was exceeded (see section C.3.10 of the SIP). The State's SIP requires that sources comply, as soon as practicable, with the requirement to hold allowances covering their emissions. Because the backstop trading program does not allow allocations to exceed the milestone, the program is sufficient to achieve the milestones adopted pursuant to 40 CFR 51.309(d)(4)(i) as discussed above. The backstop trading program is also consistent with the elements for such programs outlined in 40 CFR 51.308(e)(2)(vi). The analysis found in Section V.E. of this notice shows that the backstop trading program is consistent with the elements for trading programs outlined in 40 CFR 51.308(e)(2)(vi).

We are proposing to determine the State's SIP meets the requirements of 40 CFR 309(d)(4)(v).

6. Provisions for the 2018 Milestone

Pursuant to 40 CFR 51.309(d)(vi)(A), the SIP has provisions to ensure that, until a revised implementation plan is submitted in accordance with 40 CFR 51.308(f) and approved by EPA, emissions from covered stationary sources in any year beginning in 2018 do not exceed the 2018 milestone. In order to meet this requirement, the State has included special provisions for what will be required as part of their 2013 SIP revision required under 40 CFR 51.309(d)(10). The State's SIP provides that the 2013 SIP revision required by 40 CFR 51.309(d)(10) will contain either the provisions of a program designed to achieve reasonable progress for stationary sources of SO2 beyond 2018 or a commitment to submit a SIP revision containing the provisions of such a program no later than December 31, 2016 (see section D.2 of the SIP).

We are proposing to determine the State's SIP meets the requirements of 40 CFR 51.309(d)(4)(vi)(A).

7. Special Penalty Provision for 2018

Pursuant to 40 CFR 51.309(d)(vi)(B), the SIP includes special penalty provisions to ensure that the 2018 milestone is met. If the backstop trading program is triggered and it will not start until after the year 2018, a special penalty shall be assessed to sources that exceed the 2018 milestone. Wyoming shall seek at least the minimum financial penalty of $5,000 per ton of SO2 emissions in excess of a source's allowance limitation. Any source may resolve its excess emissions violation by agreeing to a streamlined settlement approach where the source pays a penalty of $5,000 per ton or partial ton of excess emissions and the source makes the payment within 90 calendar days after the issuance of a notice of violation.

Any source that does not resolve its excess emissions violation in accordance with the streamlined settlement approach will be subject to civil enforcement action, in which the State shall seek a financial penalty for the excess emissions based on the State's statutory maximum civil penalties. The special penalty provisions for 2018 will apply for each year after 2018 until the State determines that the 2018 milestone has been met. The State will evaluate the amount of the minimum monetary penalty during each five-year SIP review and the penalty will be adjusted to ensure that penalties per ton substantially exceed the expected cost of allowances, and are thus stringent penalties (see Chapter 14, Section 2(l) and section A.5 of the SIP).

We are proposing to determine the State's SIP meets the requirements of 40 CFR 51.309(d)(4)(vi)(B).

D. “Better-Than-BART” Demonstration

As discussed in Section IV.A of this preamble, if a state adopts an alternative program designed to replace source-specific BART controls, the state must be able to demonstrate that the alternative program achieves greater reasonable progress than would be achieved by BART. Wyoming has included a demonstration of how the 309 program achieves greater reasonable progress than BART as discussed in the document titled Demonstration that the SO2 Milestones Provide for Greater Reasonable Progress than BART (“better-than-BART” demonstration). Section V.D.5 below contains a discussion on how the 309 backstop trading program achieves greater reasonable progress than BART. New Mexico and Utah have also submitted SIPs with the same better-than-BART demonstration as Wyoming, and thus, are relying on a consistent demonstration across the states.

1. List of BART-Eligible Sources

Pursuant to 40 CFR 51.308(e)(2)(i)(A), the State's better-than-BART demonstration lists the BART-eligible sources covered by the program (see Table 3 below). BART eligible sources are identified as those sources that fall within one of the 26 specific source categories, were built between 1962 and 1977 and have potential emissions of 250 tons per year of any visibility impairing air pollutant.

We are proposing that this satisfies the requirements of 40 CFR 51.308(e)(2)(i)(A).

2. Subject-to-BART Determination

Pursuant to 40 CFR 51.308(e)(2)(i)(B), the State has determined which sources are subject-to-BART. Each of the section 309 states provided source modeling that determined which of the BART-eligible sources within their states to determine which sources cause or contribute to visibility impairment and are thus subject-to-BART. The State of New Mexico and Utah relied on modeling by the WRAP to identify sources subject to BART. Based on the list of identified sources, the WRAP performed the initial BART modeling for the State of New Mexico and Utah. The procedures used are outlined in the WRAP Regional Modeling Center (RMC) BART Modeling Protocol.¹⁴ The State of Wyoming performed separate modeling to identify sources subject-to-BART.¹⁵

¹⁴ CALMET/CALPUFF Protocol for BART Exemption Screening Analysis for Class I Areas in the Western United States, Western Regional Air Partnership (WRAP); Gail Tonnesen, Zion Wang; Ralph Morris, Abby Hoats and Yiqin Jia, August 15, 2006. Available at: http://pah.cert.ucr.edu/aqm/308/bart/WRAP_RMC_BART_Protocol_Aug15_2006.pdf.

¹⁵ BART Air Modeling Protocol, Individual Source Visibility Assessments for BART Control Analyses, State of Wyoming, Department of Environmental Quality, Air Quality Division, Cheyenne, WY September 2006.

The states established a contribution threshold of 0.5 deciviews for determining if a single source causes or contributes to visibility impairment. If the modeling shows that a source has a 0.5 deciview impact at any Class I area, that source causes or contributes to visibility impairment and is subject-to-BART. Table 3 shows the BART-eligible sources covered by the 309 backstop program and whether they are subject-to-BART.

We are proposing to determine that the State's SIP meets the requirements of 40 CFR 51.308(e)(2)(i)(B).

Table 3—Subject-to-BART Status for Section 309 BART-Eligible Sources
State | Company | Facility | Subject-to- BART?
New Mexico | Frontier | Empire Abo | No.
New Mexico | Xcel Energy | SWPS Cunningham Station | No.
New Mexico | Duke Energy | Artesia Gas Plant | No.
New Mexico | Duke Energy | Linam Ranch Gas Plant | No.
New Mexico | Dynegy | Saunders | No.
New Mexico | Giant Refining | San Juan Refinery | No.
New Mexico | Giant Refining | Ciniza Refinery | No.
New Mexico | Xcel Energy | SWPS Maddox Station | No.
New Mexico | Marathon | Indian Basin Gas Plant | No.
New Mexico | Public Service of New Mexico | San Juan Generating Station | Yes.
New Mexico |  | Rio Grande Station | No.
New Mexico | Western Gas Resources | San Juan River Gas Plant | No.
Utah | Pacificorp | Hunter | Yes.
Utah | Pacificorp | Huntington | Yes.
Wyoming | Basin Electric | Laramie River | Yes.
Wyoming | Black Hills Power & Light | Neil Simpson I | No.
Wyoming | Dyno Nobel | Dyno Nobel | No.
Wyoming | FMC Corp. | Green River Soda Ash Plant | Yes.
Wyoming | FMC Corp. | Granger River Soda Ash Plant | No.
Wyoming | General Chemical | Green River Soda Ash Plant | Yes.
Wyoming | P4 Production | Rock Springs Coking Plant | No.
Wyoming | Pacificorp | Dave Johnston | Yes.
Wyoming | Pacificorp | Jim Bridger | Yes.
Wyoming | Pacificorp | Naughton | Yes.
Wyoming | Pacificorp | Wyodak | Yes.
Wyoming | Sinclair Oil Corp | Sinclair Refinery | No.
Wyoming | Sinclair Refinery | Casper | No.

3. Best System of Continuous Emission Control Technology

As required by 40 CFR 51.308(e)(2)(i)(C), the State determined what BART would be for each subject-to-BART source covered by the 309 backstop trading program. In the State's better-than-BART demonstration, all subject-to-BART EGUs were assumed to be operating at the presumptive SO2 emission rate of 0.15 lb/MMBtu established in the BART Guidelines (70 FR 39171). The 309 program also includes non-EGU subject-to-BART units. As explained in the better-than-BART demonstration, the non-EGU subject-to-BART units are four boilers located at two trona plants in Wyoming: FMC Westvaco and General Chemical Green River. Wyoming made a determination of what BART would be for these non-EGU units. FMC Westvaco recently installed pollution control projects achieving a 63% reduction in SO2 from its two boilers. Wyoming determined this control level would serve as a BART benchmark for all trona boilers. Thus, a 63% reduction in emissions from these sources was included in the BART benchmark in calculating emission reductions assuming the application of BART at these sources. Emission reductions or the BART benchmark for all subject-to-BART sources covered by the 309 program was calculated to be 48,807 tons of SO2 (all supporting calculations for the “better-than-BART” demonstration are located in the State's TSD under the title 10-6-10_milestone.xls).

We are proposing to determine the State's SIP meets the requirements of 40 CFR 51.308(e)(2)(i)(C).

4. Projected Emissions Reductions

As required by 40 CFR 51.308(e)(2)(i)(D), the State has provided the expected emission reductions that would result from the 309 backstop trading program. The better-than-BART demonstration projects that 2018 baseline emissions would be 190,656 tpy of SO2 for the sources covered by the 309 program in the participating states. The reductions achieved by the program are 48,807 tpy of SO2, resulting in remaining emissions of 141,849 tpy of SO2 in 2018.

We are proposing to determine the State's SIP meets the requirements of 40 CFR 51.308(e)(2)(i)(D).

5. Evidence That the Trading Program Achieves Greater Reasonable Progress Than BART

The State's better-than-BART demonstration provides numerous reasons why the SO2 backstop trading program is better than BART. First, additional sources beyond BART sources are included. The backstop trading program includes all stationary sources with emissions greater than 100 tpy of SO2, and thus, encompasses 63 non-subject-to-BART sources, which are identified in the better-than-BART demonstration. BART applied on a source-specific basis would not affect these sources, and there would be no limitation on their future operations under their existing permit conditions, or allowable emissions. The milestones will cap these sources at 2002 actual emissions, which are less than current allowable emissions.

The program also provides for a cap on new source growth. Future impairment is prevented by capping emissions growth from sources covered by the program and also by including entirely new sources in the region under the cap. BART applied on a source-specific basis would have no impact on future growth. The backstop trading program also provides a mass-based cap that has inherent advantages over applying BART to each individual source. The baseline emission projections and assumed reductions due to the assumption of BART-level emission rates on all sources subject-to-BART are all based on actual emissions, using 2006 as the baseline. If the BART process were applied on a source-specific basis to individual sources, emission limitations would typically be established as an emission rate (lbs/hr or lbs/MMBtu) that would account for variations in the sulfur content of fuel and alternative operating scenarios, or allowable emissions. A mass-based cap that is based on actual emissions is more stringent because it does not allow a source to consistently use this difference between current actual and allowable emissions.

We are proposing to determine the State's 309 backstop trading program achieves greater reasonable progress than would be achieved through the installation and operation of BART, and thus, meets the requirements of 40 CFR 51.308(e)(2)(i)(E).

6. All Emission Reductions Must Take Place During the First Planning Period

The first planning period ends in 2018. As discussed above, the reductions from the 309 program will occur by 2018. We are therefore proposing to determine the State's SIP meets the requirements of 40 CFR 51.308(e)(2)(iii).

7. Detailed Description of the Alternative Program

The detailed description of the backstop trading program are provided in Section C—Stationary Sources of the State's SIP and WAQSR Chapter 14 Section 2. The details of the backstop trading program are discussed in section V.E of this notice. We are proposing to determine that the State's SIP meets the detailed description requirement in 40 CFR 51.308(e)(2)(iii).

8. Surplus Reductions

We propose to approve the determination in the State's 309 SIP submittal that all emission reductions resulting from the emissions trading program are surplus as of the baseline date of the SIP, as required by 40 CFR 51.308(e)(2)(iv).

9. Geographic Distribution of Emissions

Pursuant to 40 CFR 51.308(e)(3), the State used modeling conducted by the WRAP to compare the visibility improvement expected from source-by-source BART to the backstop trading program for the Class I areas on the Colorado Plateau. A summary of the modeling results can be found in Section K of the State's SIP, which refers to data from modeling included in Tables 2 and 3 of Attachment C to the Annex.¹⁶ ¹⁷ This modeling was conducted during the development of the Annex to examine if the geographic distribution of emissions under the trading program would be substantially different and disproportionately impact any Class I area due to a geographic concentration of emissions. The modeled visibility improvement for the best and worst days at the Class I areas for the 309 program is similar to improvement anticipated from the BART scenario (within 0.1 deciview) on the worst and best visibility days. Thus, if we assume participation and milestones consistent with the model, the model demonstrates that the distribution of emissions between the BART scenario and the 309 trading program are not substantially different. We note this modeling demonstration included nine states, many of which are not participating in the backstop trading program. This modeling demonstration adds support to our proposed determination, discussed above in this section, that the regional haze 309 SIP submittal appropriately shows the trading program will achieve greater reasonable progress than would be achieved through the installation and operation of BART, as required by 40 CFR 51.308(e)(2)(i)(E).

¹⁶ Voluntary Emissions Reduction Program for Major Industrial Sources of Sulfur Dioxide in Nine Western States and A Backstop Market Trading Program, an Annex to the Report of the Grand Canyon Visibility Transport Commission (September 2000) at C-15 and 16.

¹⁷ WRAP conducted modeling of the degree of visibility improvement that would occur on average and for the 20% best and worst visibility days. The WRAP used the transfer coefficients developed as part of the Integrated Assessment System and used by the GCVTC. As noted in the Annex, this modeling has limitations which must be considered when interpreting the results.

E. Requirements for Alternative Programs With an Emissions Cap

The following analysis shows that the State's SIP is consistent with the elements for trading programs required by 40 CFR 51.308(e)(2)(vi). The backstop trading program contains milestones, which are in effect a cap. Under a backstop trading program, the provisions of a trading program are enacted only if the milestone has been exceeded. Since the 309 trading program is a backstop trading program, the provisions outlined below will only apply if the milestone is exceeded and the program is triggered.

1. Applicability Provisions

Pursuant to 40 CFR 51.308(e)(2)(vi)(A), the backstop trading program has the same applicability requirements in all states opting to participate in the program. WAQSR Chapter 14, Section 2(c) contains the applicability provisions and provides that the backstop trading program applies to all stationary sources that emit 100 tons per year or more of SO2 in the program trigger year.

We are proposing to approve that the State's SIP meets the requirements of 40 CFR 51.308(e)(2)(vi)(A).

2. Allowance Provisions

Section C.1.C1 of the SIP and WAQSR Chapter 14, Section 2(g) contain the allowance allocation provisions as required by 40 CFR 51.308(e)(2)(vi)(B). The rule requires sources to open a compliance account in order to track allowances and contains other requirements associated with those accounts. The SIP contains the provisions on how the State will allocate allowances and requires that the total number of allowances distributed cannot exceed the milestone for any given year.

We are proposing to determine the State's SIP meets the requirements of 40 CFR 51.308(e)(2)(vi)(B).

3. Monitoring, Recordkeeping and Reporting Provisions

Pursuant to 40 CFR 51.308(e)(2)(vi)(C)-(E), WAQSR Chapter 14, Section 2(h)(i)(A) provides that sources subject to 40 CFR part 75 under a separate requirement from the backstop trading program shall meet the requirements contained in 40 CFR part 75 with respect to MRR of SO2 emissions. If a unit is not subject to 40 CFR part 75 under a requirement separate from the trading program, the State requires that a source use one of the following monitoring methods: (1) Continuous emission monitoring system for SO2 and flow that complies with all applicable monitoring provisions in 40 CFR part 75; (2) if the unit is a gas- or oil-fired combustion device, the monitoring methodology in Appendix D to 40 CFR part 75, or, if applicable, the low mass emissions provisions (with respect to SO2 mass emissions only) of section 75.19(c) of 40 CFR part 75; (3) one of the optional protocols, if applicable, in Appendix A to WAQSR Chapter 14;¹⁸ or (4) a petition for site-specific monitoring that the source submits for approval by the State and EPA. All the above sources are required to comply with the reporting and recordkeeping requirements in 40 CFR part 75.

¹⁸ Appendix A of Chapter 14 contains monitoring requirements for fuel gas combustion devices at petroleum refineries and kilns with positive pressure fabric filters. Appendix A specifies the installation of a continuous fuel gas monitoring system and predictive flow monitoring system, respectively. Appendix A also specifies requirements under 40 CFR part 75 sources must follow in regards to this equipment.

Although most sources covered by the backstop trading program will be able to meet the monitoring requirements stated above, there are some emission units that are either not physically able to install the needed equipment or do not emit enough SO2 to justify the expense of installing these systems. As discussed in section C5.3 of the SIP, the trading program allows these emission units to continue to use their pre-trigger monitoring methodology, but does not allow the source to transfer any allocation to that unit to another source. The program requires that the allowances associated with emission units that continue to use their pre-trigger monitoring methodology be placed in a special reserve compliance account, while allowances for other emission units are placed in a regular compliance account. Sources may not trade allowances out of a special reserve compliance account, even for use by emission units at the same source, but can use the allowances to show compliance for that particular unit.

WAQSR Chapter 14, Section 2(h)(i)(B) allows sources with any of the following emission units to apply to establish a special reserve compliance account: (1) Any smelting operation where all of the emissions from the operation are not ducted to a stack; (2) any flare, except to the extent such flares are used as a fuel gas combustion device at a petroleum refinery; or (3) any other type of unit without add-on SO2 control equipment, if the unit belongs to one of the following source categories: cement kilns, pulp and paper recovery furnaces, lime kilns, or glass manufacturing. Pursuant to 40 CFR 51.308(e)(2)(vi)(E), sources with a special reserve compliance account are required to submit to the State an annual emissions statement and sources are required to maintain operating records sufficient to estimate annual emissions consistent with the baseline emission inventory submitted in 1998.

We are proposing to determine the State's SIP meets the requirements of 40 CFR 51.308(e)(2)(vi)(C)-(E).

4. Tracking System

As required by 40 CFR 51.308(e)(2)(vi)(F), section C2 of the SIP provides the overarching specifications for an Emissions and Allowance Tracking System (EATS). According to the SIP, the EATS must provide that all necessary information regarding emissions, allowances, and transactions is publicly available in a secure, centralized database. The EATS must ensure that each allowance is uniquely identified, allow for frequent updates, and include enforceable procedures for recording data. If the program is triggered, the State will work with other states and tribes participating in the trading program to implement this system. More detailed specifications for the EATS are provided in the WEB Emission and Allowance Tracking System (EATS) Analysis in the State's TSD. The State assumes responsibility for ensuring that all the EATS provisions are completed as described in its SIP and TSD.

In addition, the State will work with the other participating states to designate one tracking system administrator (TSA). The SIP provides that the TSA shall be designated as expeditiously as possible, but no later than six months after the program trigger date. The State will enter into a binding contract with the TSA that shall require the TSA to perform all TSA functions described in the SIP, such as transferring and recording allowances (see section A2.2 of the SIP).

We are proposing to determine that the State's SIP meets the requirements of 40 CFR 51.308(e)(2)(iv)(F).

5. Account Representative

Pursuant to 40 CFR 51.308(e)(2)(vi)(G), WAQSR Chapter 14, Section 2(d) contains provisions for the establishment of an account representative. The rule requires each source to identify one account representative. The account representative shall submit to the State and the TSA a signed and dated certificate that contains a certification statement verifying that the account representative has all the necessary authority to carry out the account representative responsibilities under the trading program on behalf of the owners and operators of the sources. The certification statement also needs to indicate that each such owner and operator shall be fully bound by the account representatives representations, actions, inactions, or submissions and by any decision or order issued to the account representative by the State regarding the trading program.

We are proposing to determine the State's SIP meets the requirements of 40 CFR 51.308(e)(2)(vi)(G).

6. Allowance Transfers

The State has established procedures pertaining to allowance transfers to meet the requirements of 40 CFR 51.308(e)(2)(vi)(H). WAQSR Chapter 14, Section 2(i) contains requirements sources must follow for allowance transfers. To transfer or retire allowances, the account representative shall submit the transfer account number(s) identifying the transferor account, the serial number of each allowance to be transferred, the transferor's account representative's name and signature, and date of submission. The allowance transfer deadline is midnight Pacific Standard Time on March 1 of each year following the end of the control period. Sources must correctly submit transfers by this time in order for a source to be able to use the allowance to demonstrate compliance.

Section C3 of the SIP provides the procedures the TSA must follow to transfer allowances. The TSA will record an allowance transfer by moving each allowance from the transferor account to the transferee account as specified by the request from the source, if the transfer is correctly submitted, and the transferor account includes each allowance identified in the transfer. Within five business days of the recording of an allowance transfer, the TSA shall notify the account representatives of both the transferor and transferee accounts, and make the transfer information publicly available on the Internet. Within five business days of receipt of an allowance transfer that fails to meet the requirements for transfer, the TSA will notify the account representatives of both accounts of the decision not to record the transfer, and the reasons for not recording the transfer.

We are proposing to determine that the State's SIP meets the requirements of 40 CFR 51.308(e)(2)(vi)(H).

7. Compliance Provisions

Pursuant to 40 CFR 51.308(e)(2)(vi)(I), the State has provided the procedures for determining compliance in WAQSR Chapter 14, Section 2(k). Per this section, the source must hold allowances as of the allowance transfer deadline in the source's compliance account (together with any current control year allowances held in the source's special reserve compliance account) in an amount not less than the total SO2 emissions for the control period from the source. The State determines compliance by comparing allowances held by the source in their compliance account(s) with the total annual SO2 emissions reported by the source. If the comparison of the allowances to emissions results in emissions exceeding allowances, the source's excess emissions are subject to the allowance deduction penalty discussed in further detail below.

We are proposing to determine that the State's SIP meets the requirements of 40 CFR 51.308(e)(2)(vi)(I).

8. Penalty Provisions

WAQSR Chapter 14, Section 2(k)(iii) provides the penalty provisions required by 40 CFR 51.308(e)(2)(vi)(J). Per this section, a source's allowances will be reduced by an amount equal to three times the source's tons of excess emissions if they are unable to show compliance. Allowances allocated for the following control period will be the original allowance minus the allowance penalty. If the compliance account does not have sufficient allowances allocated for that control period, the required number of allowances will be deducted from the source's compliance account regardless of the control period for which they were allocated.

We are proposing to determine that the State's SIP meets the requirements of 40 CFR 51.308(e)(2)(vi)(J).

9. Banking of Allowances

As allowed by 40 CFR 51.308(e)(2)(vi)(K), WAQSR Chapter 14, Section 2(j) allows sources to use allowances from current and prior years to demonstrate compliance, with some restrictions. Sources can only use 2018 allowances to show compliance with the 2018 milestone and may not use allowances from prior years. In order to ensure that the use of banked allowances does not interfere with the attainment or maintenance of reasonable progress goals, the backstop trading program includes flow-control provisions. The flow-control provisions are triggered if the TSA determines that the banked allowances exceed ten percent of the milestone for the next control year, and thereby ensure that too many banked emissions are not used in any one year (see section C4 of the SIP).

We are proposing to determine the State's SIP meets the requirements of 40 CFR 51.309(e)(2)(vi)(J).

10. Program Assessment

Pursuant to 40 CFR 51.308(e)(2)(vi)(L), the SIP contains provisions for a 2013 assessment and SIP revision. For the 2013 assessment, the State will work with other participating states to develop a projected emission inventory for SO2 through the year 2018. The State will then evaluate the projected inventory and assess the likelihood of meeting the regional milestone for the year 2018. The State shall include this assessment as part of the 2013 progress report that must be submitted under 40 CFR 51.309(d)(10) (see section D1 of the SIP).

We are proposing to determine the State's SIP meets the requirements of 40 CFR 308(e)(2)(vi)(L).

F. Provisions for Stationary Source Emissions of Nitrogen Oxides and Particulate Matter

Pursuant to 40 CFR 51.309(d)(4)(vii), the State submitted another SIP dated January 12, 2011 that contains the requirements for PM and NOX BART. EPA plans to act on this submittal in a separate notice.

G. Mobile Sources

Pursuant to 40 CFR 51.309(d)(5)(i), the State, in collaboration with the WRAP, assembled a comprehensive statewide inventory of mobile source emissions. The inventory included on-road and non-road mobile source emissions inventories for western states for the 2003 base year and emission projections for the year 2018.¹⁹ The inventory shows a continuous decline in emissions from mobile sources from VOC, NOX, PM2.5, EC, and OC emissions over the period of 2003-2018. Between 2003 and 2018, the inventory shows that there will be a 54 percent decrease in NOX emissions, a 39 percent decrease in OC, a 24 percent decrease in EC, a 38 percent decrease of PM2.5, and a 56 percent decrease of VOC. Per 40 CFR 51.309(d)(5)(i)(A), the inventory shows a decline in the required mobile source emissions categories and therefore no further action is required by the State to address mobile source emissions (see section D.1 of the SIP).

¹⁹ Detailed information on the emission inventory is contained in the ENVIRON Report WRAP Mobile Source Emission Inventories Update, May 2006. This report is included in the Supporting and Related Materials section of the docket.

Pursuant to 40 CFR 51.309(d)(5)(i)(B), the State reviewed SO2 emissions from non-road mobile sources. The emission inventory projections show that there will be a 99 percent decrease in SO2 emissions from non-road mobile sources for 2003-2018. The reduction will result from the implementation of EPA's rule titled Control of Emissions of Air Pollution from Non-road Diesel Engines and Fuel (see 69 FR 38958). The State determined that a 99 percent reduction in SO2 from non-road mobile sources is consistent with the goal of reasonable progress and that no other long-term strategies are necessary to address SO2 emissions from non-road mobile sources (see section D.1.c of the SIP).

We are proposing to determine the State's SIP meets the requirements of 40 CFR 51.309(d)(5).

H. Programs Related to Fire

1. Evaluation of Current Fire Programs

Pursuant to 40 CFR 51.309(d)(6)(i), the State has evaluated its existing open burning regulations and all existing federal and private prescribed fire smoke management programs in the State. The State evaluated the potential for fire to contribute to visibility impairment in the 16 Class I areas of the Colorado Plateau, and how visibility protection is addressed by different entities in planning and operation. The state of Wyoming relied upon the WRAP report Assessing Status of Incorporating Smoke Effects into Fire Planning and Operation, as well as EPA's Interim Air Quality Policy on Wildland and Prescribed Fire as guides for making this evaluation. (A full copy of these documents can be found in the Wyoming TSD and the Supporting and Related materials section of the docket, respectively).

The State determined that a new smoke management regulation, incorporated as WAQSR Chapter 10, Section 4 and submitted as part of the regional haze SIP, would be required to meet the requirements of 40 CFR 51.309(d)(6)(i). WAQSR Chapter 10, Section 4 establishes requirements for vegetative burners pertaining to the management of emissions and air quality impacts from smoke on public health and visibility. WAQSR Chapter 10, Section 4 applies to burns that will emit more than 0.25 tons of PM2.5 per day. There are two types of burns specified by the rule. SMP-I burns are those burn projects expected to generate less than two tons per day of PM10 and SMP-II burns are those burn projects expected to generate two tons per day or more of PM10. The following discusses how the requirements of WAQSR Chapter 10, Section 4 meet the requirements of 40 CFR 51.309(d)(6)(i). The four required program elements are discussed below and are contained in WAQSR Chapter 10, Section 4.

a. Actions To Minimize Emissions

In order to minimize emissions, the State's SIP relies on the use of emission reduction techniques by burners. Any techniques used in conjunction with burning that reduce the actual amount of emissions produced from a planned burn project are considered emission reduction techniques. The SIP requires land managers burning SMP-II burns to use at a minimum one emission reduction technique for each planned burn project. SMP-II burners will indicate on the required State registration form the emission reduction technique(s) utilized for each planned burn project (WAQSR Chapter 10, Section 4(g)(i)(C)).

b. Evaluation of Smoke Dispersion

The SIP only allows SMP-I burns to be ignited during daytime hours when there is a slight breeze and there is no population within 0.5 mile of the burn project in the downwind direction. To comply with this requirement, the burner will document the time of day of the planned burn project, the wind direction and wind speed at the time of the burn project, as well as the distance to a population (WAQSR Chapter 10, Section 4(f)(iii)).

For SMP-II burns, the SIP provides the burner with two options pertaining to the dispersion of smoke and burning. A burner can ignite a planned burn project during times when the ventilation is classified as “Good” or better.²⁰ Also, a burner can ignite a planned burn project during times when the ventilation is classified as “Fair” and if there is no population within 10 miles of the planned burn project in the downwind trajectory (WAQSR Chapter 10, Section 4(g)(i)(D)).

²⁰ Ventilation category is a classification that describes the potential for smoke to ventilate away from its source. The classification (Excellent, Very Good, Good, Fair, Poor) is determined by multiplying the mixing height in feet by the transport winds in knots, thus providing the ventilation category in knot-feet. The ventilation category can be found in the National Weather Service's Fire Weather Forecast, which is the State approved source for this information

c. Alternatives to Fire

The State SIP requires that burners generating over 100 tons per year of PM must consider the use of alternatives to burning. Burners must then document that the use of alternatives to burning were considered prior to the decision to utilize fire. The documentation includes citing the feasibility criterion that prevented the use of alternatives. This documentation must be included on the registration form provided by the State (WAQSR Chapter 10, Section 4(h)).

d. Public Notification

For SMP-I burns, the SIP requires that burners must make a good faith effort to utilize a minimum of one public notification method specified in the SIP to notify the populations that are located within one half mile of the planned burn project. The burner must conduct public notification no sooner than 30 days and no later than two days in advance of the ignition of the planned burn project. In addition, the burner will also notify the jurisdictional fire authority per the requirements of the jurisdictional fire authority,²¹ or, absent any such requirements, immediately prior to ignition (WAQSR Chapter 10, Section 4(f)(ii)).

²¹ Jurisdictional fire authority means an agency, organization, or department whose purpose is to prevent, manage, and/or suppress fires in a designated geographic area, including, but not limited to, volunteer fire departments, fire districts, municipal fire departments, and federal fire staff.

For SMP-II burns, the SIP requires that burners must make a good faith effort to utilize a minimum of one public notification method to notify populations within 10 miles of the planned burn project. The burner must conduct public notification no sooner than 30 days and no later than two days in advance of the ignition of the planned burn project, and will provide documentation of public notification on the State post burn reporting form. In addition, the burner will also notify the jurisdictional fire authority per the requirements of the jurisdictional fire authority or, absent any such requirements, immediately prior to ignition (WAQSR Chapter 10, Section 4(g)(iii)).

e. Air Quality Monitoring

Burners of SMP-I burns are required to attend and observe their planned burn projects periodically (WAQSR Chapter 10, Section 4(f)(iv)). SMP-II burners are required to conduct and document visual monitoring on all planned burn projects. On a case-by-case basis, SMP-II burners may also be required by the State to conduct and document ambient air quality and/or visibility monitoring. The use of monitoring equipment will be based on the planned burn project's proximity to a population, nonattainment area, or Class I area (WAQSR Chapter 10, Section 4(g)(i)(E)).

f. Surveillance and Enforcement

The Wyoming Environmental Quality Act authorizes surveillance, inspection, and enforcement for the State's regulations. WAQSR Chapter 10, Section 4(e)(ii) specifies that burners and responsible jurisdictional fire authorities shall give permission to State staff to enter and inspect for the purpose of investigating a planned burn project or unplanned fire event and for determining compliance or non-compliance.

g. Program Evaluation

The State will evaluate the fire programs in the State as part of the future progress reports required by 40 CFR 51.309(d)(10). The State will use these evaluations to revise Chapter 10, Section 4, as needed. The provisions for program evaluation are included in the Wyoming Smoke Management Program Guidance Document, November 2004 (included in the Supporting and Related Materials section of the docket).

2. Inventory and Tracking System

Pursuant to 40 CFR 51.309(d)(6)(ii), the State maintains a fire emission inventory of the following pollutants: VOC, NOX, elemental carbon, organic carbon, and fine particulate for fire sources within the State (Section E.2 of the SIP). In order to maintain the emission inventory, Chapter 10, Section 4 requires both SMP-I and SMP-II burners to report to the State on emissions from their burns. To track fires, the State uses the WRAP Fire Emission Tracking System (FETS). The FETS is a web-enabled database for planned and unplanned fire events. The FETS is a planning tool for daily smoke management coordination, and retrospective analyses such as emission inventories and regional haze air quality planning tasks (see http://wrapfets.org).

3. Strategy for Use of Alternatives to Burning

In section E.3 of the SIP, the State is required to work with key public and private entities to identify and remove administrative barriers to the use of alternatives to burning for prescribed fire on federal, State, and private lands, pursuant to 40 CFR 51.309(d)(6)(iii). The process is collaborative and provides for continuing identification and removal of administrative barriers, and considers economic, safety, technical and environmental feasibility criteria, and land management objectives. Should the State determine that an administrative barrier exists, the State will work collaboratively with the appropriate public and private entities to evaluate the administrative barrier, identify the steps necessary to remove the administrative barrier, and initiate the removal of the administrative barrier, where it is feasible to do so.

4. Enhanced Smoke Management Program

Pursuant to 40 CFR 51.309(d)(6)(iv), the smoke management programs that operate within the State are consistent with the WRAP Policy on Enhanced Smoke Management Programs for Visibility (WRAP ESMP). A copy of this policy can be found in the Wyoming TSD. This policy calls for programs to be based on the criteria of efficiency, economics, law, emission reduction opportunities, land management objectives, and reduction of visibility impacts. The intent of the WRAP ESMP is to assist states to address visibility effects associated with fire in a way that is adequate for a SIP (section E.4 of the SIP).

5. Annual Emission Goal

Pursuant to 40 CFR 51.309(d)(6)(v), the State will seek to minimize emission increases in fire through the use of annual emission goal using the policies set out by Western Regional Air Partnership Policy on Annual Emission Goals for Fire. A copy of this policy can be found in the Wyoming TSD. The State will use a collaborative mechanism for setting annual emission goals and developing a process for tracking their attainment on a yearly basis. The State will rely on emission reduction techniques, where appropriate, to minimize emission increases in fire (section E.5 of the SIP).

We are proposing that the Sate's SIP meets the requirements of 40 CFR 51.309(d)(6).

I. Paved and Unpaved Road Dust

WRAP performed an assessment of the impact of dust emissions from paved and unpaved roads on the 16 Class I areas of the Colorado Plateau. The WRAP modeled and calculated the significance of road dust in terms of the impact on visibility on the worst 20 percent days. The modeled regional impact of road dust emissions ranged from 0.31 deciviews at the Black Canyon of the Gunnison National Park to 0.08 deciviews at the Weminuche Wilderness Area. (For more information on the WRAP modeling and assessment of road dust impacts, see Chapter 7 of the WRAP TSD). Based on the WRAP modeling, the State has concluded that road dust is not a significant contributor to visibility impairment in the 16 Class I areas. Since the State has found that road dust is not a significant contributor to visibility impairment, the State did not include road dust control strategies in the SIP pursuant to 40 CFR 51.309(d)(7) (section F.1(b) of the SIP).

The State will track road dust emissions with the assistance of the WRAP and provide an update on paved and unpaved road dust emission trends, including any modeling or monitoring information regarding the impact of these emissions on visibility in the 16 Colorado Plateau Class I Areas. These updates will include a reevaluation of whether road dust is a significant contributor to visibility impairment. These updates shall be part of the periodic implementation plan revisions pursuant to 40 CFR 51.309(d)(10) (section I.1(a) of the SIP).

We propose to determine the State's SIP meets the requirements of 40 CFR 51.309(d)(7).

J. Pollution Prevention

Under 40 CFR 51.309(d)(8), states must provide information on renewable energy and other pollution prevention efforts in the state. 40 CFR 51.309(d)(8) does not require states to adopt any new measures or regulations. Thus, we find the information Wyoming provided adequate to meet the requirements of 40 CFR 51.309(d)(8) as discussed below.

1. Description of Existing Pollution Prevention Programs

Pursuant to 40 CFR 51.309(d)(8)(i), Table G-1 of the SIP summarizes all pollution prevention and renewable energy programs currently in place in Wyoming. The State also determined the renewable energy generation capacity and production in the State and the State's total energy generation capacity and production.

2. Incentive Programs

Per 40 CFR 51.309(d)(8)(ii), section G.4 of the SIP states that the State has provided incentives for early compliance by participating in the 309 regional SO2 backstop trading program. The backstop trading program allows for early reduction credits. Sources of SO2 subject to the trading program that reduce emissions prior to the program trigger date shall receive additional emission allowances. The source may use such allowances for compliance purposes or may sell them to other parties.

3. Programs To Preserve and Expand Energy Conservation Efforts

Per 40 CFR 51.309(d)(8)(iii), the State provided a table that discusses the programs within the State that preserve and expand energy conservation efforts. Such programs include the “Energy Exchange Program” by PacifiCorp and “Rebuild America,” a Department of Energy resource network. For a complete list of programs in the State, see table G-5 of the SIP.

4. Potential for Renewable Energy

Pursuant to 40 CFR 51.309(d)(8)(iv), the State has utilized data from the National Renewable Energy Laboratory to assess areas where there is the potential for renewable energy to supply power in a cost-effective manner. The SIP summarizes the potential for renewable energy development in Wyoming. See Figures G-1 through G-7 of the SIP for more detailed information.

5. Projections of Renewable Energy Goals, Energy Efficiency, and Pollution Prevention Activities

Pursuant to 40 CFR 51.309(d)(8)(v), the State has used projections made by the WRAP of the short and long-term emissions reductions, visibility improvements, cost savings, and secondary benefits associated with renewable energy goals, energy efficiency, and pollution prevention activities. (A complete description of these projections can be found in the Wyoming TSD in a document titled Economic Assessment of Implementing the 10/20 Goals and Energy Efficiency Recommendations.) The document provides overall projections of visibility improvements for the 16 Class I areas. These projections include the combined effects of all measures in this SIP, including air pollution prevention programs. Although emission reductions and visibility improvements from air-pollution prevention programs are expected at some level, they were not explicitly calculated because the resolution of the regional air quality modeling system is not currently sufficient to show any significant visibility changes resulting from the marginal NOX emission reductions expected from air pollution prevention programs.

6. Programs To Achieve the GCVTC Renewable Energy Goal

Pursuant to 40 CFR 51.309(d)(8)(vi), the State will rely on current renewable energy programs as described in section G1 of the SIP to demonstrate progress in achieving the renewable energy goal of the GCVTC. The GCVTC's goal is that that renewable energy will comprise 10 percent of the regional power needs by 2005 and 20 percent by 2015. The State will submit progress reports in 2013 and 2018, describing the State's contribution toward meeting the GCVTC renewable energy goals. To the extent that it is not feasible for the State to meet its contribution to these goals, the State will identify what measures were implemented to achieve its contribution, and explain why meeting its contribution was not feasible.

Pursuant to 40 CFR 51.309(d)(8)(i), Table G-1 of the State's SIP summarizes all pollution prevention and renewable energy programs currently in place in Wyoming. The State's SIP provides an estimate of renewable energy generating capacity in megawatts for each of the renewable energy categories (see Table 12 of the SIP). Total installed generation capacity within Wyoming in 2002 was 5,485 MW. Renewable energy generation capacity in Wyoming represented 0.77 percent of the total installed capacity.

K. Additional Recommendations

As part of the 1996 GCVTC report to EPA, the Commission included additional recommendations that EPA did not adopt as part of 40 CFR 51.309. Pursuant to 40 CFR 51.309(d)(9), the State has evaluated the additional recommendations of the GCVTC to determine if any of these recommendations could be practicably included in the SIP. The State's complete evaluation is included in the State's TSD in a document titled A Report on Additional Recommendations of the Grand Canyon Visibility Transport Commission. The State determined that no additional measures were practicable or necessary to demonstrate reasonable progress in the SIP.

We are proposing to determine that the State's SIP meets the requirements of 40 CFR 51.309(d)(9).

L. Periodic Implementation Plan Revisions

Pursuant to 40 CFR 51.309(d)(10)(i), section I of the SIP requires the State to submit to EPA, as a SIP revision, periodic progress reports for the years 2013 and 2018. The State will assess whether current programs are achieving reasonable progress in Class I areas within Wyoming, and Class I areas outside Wyoming that are affected by emissions from Wyoming. The State will address the elements listed under 40 CFR 51.309(d)(10)(i)(A) through (G) as summarized below: (1) Implementation status of 2003 SIP measures; (2) summary of emissions reductions; (3) assessment of most/least impaired days; (4) analysis of emission reductions by pollutant; (5) significant changes in anthropogenic emissions; (6) assessment of 2003 SIP sufficiency; and (7) assessment of visibility monitoring strategy.

Pursuant to 40 CFR 51.309(d)(10)(ii), the State will take one of the following actions based upon information contained in each periodic progress report. The State will provide a negative declaration statement to EPA saying that no SIP revision is needed if the State determines reasonable progress is being achieved. If the State finds that the SIP is inadequate to ensure reasonable progress due to emissions from outside the State, the State will notify EPA and the other contributing state(s), and initiate efforts through a regional planning process to address the emissions in question. If the State finds that the SIP is inadequate to ensure reasonable progress due to emissions from another country, Wyoming will notify EPA and provide information on the impairment being caused by these emissions. If the State finds that the SIP is inadequate to ensure reasonable progress due to emissions from within the State, the State will develop emission reduction strategies to address the emissions and revise the SIP no later than one year from the date that the progress report was due.

We propose to determine that the State's SIP meets the requirements of 40 CFR 51.309(d)(10).

M. Interstate Coordination

Pursuant to 40 CFR 51.309(d)(11), the State has participated in regional planning and coordination with other states by participating in the WRAP while developing its emission reduction strategies under 40 CFR 51.309. Appendix D of the SIP contains detailed information on the interstate coordination programs developed by the WRAP and the State's participation in those programs. The backstop trading program in the SIP and companion rules involved coordination of the three states (Wyoming, Utah, and New Mexico, including Albuquerque) in its development and will continue to involve coordination of the participants once it is implemented.

We propose to determine the State's SIP is consistent with the 40 CFR 51.309(d)(11).

N. Additional Class I Areas

On January 12, 2011, the State submitted a SIP pursuant to 40 CFR 51.309(g) in order to address the State's seven Class I areas not on the Colorado Plateau. EPA is acting on this submission separately.

VI. Proposed Action

In this action, EPA is proposing to approve Wyoming SIP revisions submitted on January 12, 2011 and April 19, 2012 that address the RHR for the mandatory Class I areas under 40 CFR 51.309. EPA is proposing that the January 12, 2011 and April 19, 2012 SIPs meet the requirements of 40 CFR 51.309, with the exception of 40 CFR 51.309(d)(4)(vii), and 40 CFR 51.309(g).

As part of the January 12, 2011 submittal, the State submitted revisions to WAQSR. The State submitted WAQSR Chapter 14, Sections 2 and 3—Emission Trading Program Regulations. WAQSR Chapter 14, in conjunction with the SIP, implements the backstop trading program provisions in accordance with the applicable requirements of 40 CFR 51.308 and 40 CFR 51.309. We are proposing to approve WAQSR Chapter 14, Section 2 and Section 3. The State also submitted WAQSR Chapter 10, Section 4—Smoke Management. WAQSR Chapter 10, Section 4, in conjunction with the SIP, implements the requirements for smoke management under 40 CFR 51.309(d)(6). We are proposing to approve WAQSR Chapter 10, Section 4.

The State submitted another SIP revision dated January 12, 2011 that addresses the requirements under 40 CFR 51.309(d)(4)(vii) and 40 CFR 51.309(g) pertaining to BART for PM and NOX and additional Class I areas, respectively. EPA will be taking action on this SIP at a later date. In addition, the January 12, 2011 and April 19, 2012 submittals we are proposing to act on in this notice supersede and replace regional haze SIPs submitted on December 24, 2003, May 27, 2004, and November 21, 2008.

VII. Statutory and Executive Order Reviews

Under the CAA, the Administrator is required to approve a SIP submission that complies with the provisions of the Act and applicable Federal regulations (42 U.S.C. 7410(k), 40 CFR 52.02(a)). Thus, in reviewing SIP submissions, EPA's role is to approve state choices, provided that they meet the criteria of the CAA. Accordingly, this proposed action merely approves some state law as meeting Federal requirements and disapproves other state law because it does not meet Federal requirements; this proposed action does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and,

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Intergovernmental relations, Nitrogen dioxide, Particulate matter, Reporting and recordkeeping requirements, Sulfur oxides, Volatile organic compounds.

Dated: May 9, 2012.
James B. Martin,
Regional Administrator, Region 8.

[FR Doc. 2012-12643 Filed 5-23-12; 8:45 am]

BILLING CODE 6560-50-P